DEPARTMENT OF THE INTERIOR

National Park Service

Notice of Continuation of Visitor Services

AGENCY: National Park Service, Interior.

ACTION: Public notice.

DATES: Effective Date: January 1, 2009.

FOR FURTHER INFORMATION CONTACT: Jo A. Pendry, Concession Program Manager, National Park Service, Washington, DC 20240, Telephone, 202/513-7156.

SUMMARY: Pursuant to the terms of existing concession contracts, public notice is hereby given that the National Park Service intends to request a continuation of visitor services for a period not-to-exceed 1 year from the date of contract expiration.

SUPPLEMENTARY INFORMATION: The contracts listed below have been extended to maximum allowable under 36 CFR 51.23. Under the provisions of current concession contracts and pending the completion of the public solicitation of a prospectus for a new concession contract, the National Park Service authorizes continuation of visitor services for a period not-to-exceed 1 year under the terms and conditions of the current contract as amended. The continuation of operations does not affect any rights with respect to selection for award of a new concession contract.

Conc ID No. | Concessioner name | Park
GWMP00-03 | Belle Haven Marina, Inc | George Washington Memorial Parkway.
FOMC001-96 | Evelyn Hill Corporation | Fort McHenry National Monument and Historic Shrine.
STLI003-89 | ARAMARK Sports & Entertainment Services, Inc | Statue of Liberty National Monument.
INDE001-94 | Concepts by Staid, Ltd. | Independence National Historical Park.
SHEN001-85 | ARAMARK Sports & Entertainment Services, Inc | Shenandoah National Park.
STLI002-88 | Evelyn Hill, Inc | Statue of Liberty National Monument.
CHIS003-98 | Truth Aquatics | Channel Islands National Park.
DEVA001-84 | Xanterra Parks & Resorts, Inc | Death Valley National Monument.
DEVA002-81 | Xanterra Parks & Resorts, Inc | Death Valley National Monument.
GOGA008-88 | Demosthemes Hontalas, Thomas Hontalas & William Hontalas | Golden Gate National Recreation Area.
LAME001-73 | Rex G. Maughan & Ruth G. Maughan | Lake Mead National Recreation Area.
LAME002-82 | Lake Mead RV Village, LLC | Lake Mead National Recreation Area.
LAME005-97 | Rex G. Maughan | Lake Mead National Recreation Area.
LAME006-74 | Las Vegas Boat Harbor, Inc | Lake Mead National Recreation Area.
LAME007-84 | Seven Resorts, Inc | Lake Mead National Recreation Area.
LAME009-88 | Seven Resorts, Inc | Lake Mead National Recreation Area.
LAME010-71 | Seven Resorts, Inc | Lake Mead National Recreation Area.
LAVO001-82 | California Guest Services, Inc | Lassen Volcanic National Park.
MUWO001-85 | ARAMARK Sports & Entertainment, Inc | Muir Woods National Monument.
OLYM001-78 | ARAMARK Sports & Entertainment, Inc | Olympic National Park.
OLYM002-89 | Log Cabin Resort, Inc | Olympic National Park.
OLYM005-87 | Forever Resorts, LLC | Olympic National Park.
ROLA003-87 | Ross Lake Resort, Inc | Ross Lake National Recreation Area.
YOSE001-98 | Best's Studio, Inc | Yosemite National Park.
AMIS002-89 | Rex Maughn | Amistad National Recreation Area.
AMIS003-87 | Rough Canyon Marina | Amistad National Recreation Area.
BRCA003-84 | Xanterra Parks & Resorts, Inc | Bryce Canyon National Park.
CACH001-84 | White Dove Inc., dba Thunderbird Lodge | Canyon de Chelly National Monument.
GLAC001-89 | Glacier Park Boat Company, Inc | Glacier National Park.
GLAC002-81 | Glacier Park, Inc | Glacier National Park.
GLCA003-69 | ARAMARK | Glen Canyon National Park.
GRCA004-88 | Jerman-Mangum Enterprises, Inc | Grand Canyon National Park.
GRTE003-97 | Rex G. and Ruth G. Maughan | Grand Teton National Park.
LAMR002-87 | Rex Maughan | Lake Meredith National Recreation Area.
MEVE001-82 | ARAMARK | Mesa Verde National Park.
PEF0001-85 | Xanterra Parks & Resorts, LLC | Petrified Forest National Park.
Z10N003-85 | Xanterra Parks & Resorts LLC | Zion National Park.
YELL001-03 | Medcor Incorporated | Yellowstone National Park.
HOSP002-94 | Buckstaff Bath House Company | Hot Springs National Park.
OZAR001-88 | Shane and Kimberly Van Steenis (Alley Spring Canoe Rental) | Ozark National Scenic Riverway.
OZAR012-88 | Akers Ferry Canoe Rental, Inc | Ozark National Scenic Riverway.
OZAR016-89 | Carr's Grocery & Canoe Rental | Ozark National Scenic Riverway.
SLBE005-86 | G. Michael Grosvenor (Manitou Island Transit) | Sleeping Bear Dunes National Landmark.
VOYA002-96 | Kettle Falls Hotel | Voyageurs National Park.
BLRJ001-93 | Southern Highland Handicraft Guild | Blue Ridge Parkway.
BLRI002-83 | Northwest Trading Post, Inc | Blue Ridge Parkway.
BLRI007-82 | Forever NPC Resorts, LLC | Blue Ridge Parkway.
CAHA001-98 | Avon-Thornton Limited Partnership | Cape Hatteras National Seashore.
CAHA002-98 | Cape Hatteras Fishing Pier, Inc | Cape Hatteras National Seashore.
CAHA004-98 | Oregon Inlet Fishing Center, Inc | Cape Hatteras National Seashore.
CALO003-98 | Morris Marina, Kabin Kamps & Ferry Service, Inc | Cape Lookout National Seashore.
EVER001-80 | Xanterra Parks and Resorts, Inc | Everglades National Park.
MACA002-82 | Forever Resorts, LLC/Forever Resorts, Inc | Mammoth Cave National Park.
VIIS001-71 | Caneel Bay, Inc | Virgin Islands National Park.

FOR FURTHER INFORMATION CONTACT: Jo A. Pendry, Concession Program Manager, National Park Service, Washington, DC 20240, Telephone 202/513-7156.

Dated: October 20, 2008.
Katherine H. Stevenson,
Assistant Director, Business Services.

[FR Doc. E8-29324 Filed 12-11-08; 8:45 am]

BILLING CODE 4312-53-M